DEPARTMENT OF HOMELAND SECURITY

Federal Emergency Management Agency

[FEMA-1449-DR]

Federated States of Micronesia; Amendment No. 1 to Notice of a Major Disaster Declaration

AGENCY: Federal Emergency Management Agency, Emergency Preparedness and Response, Homeland Security.

ACTION: Notice.

SUMMARY: This notice amends the notice of a major disaster declaration for the Federated States of Micronesia, (FEMA-1449-DR), dated January 6, 2003, and related determinations.

EFFECTIVE DATE: March 17, 2003.

FOR FURTHER INFORMATION CONTACT: Magda Ruiz, Recovery Division, Federal Emergency Management Agency, Washington, DC 20472, (202) 646-2705.

SUPPLEMENTARY INFORMATION: The notice of a major disaster declaration for the Federated States of Micronesia is hereby amended to include Categories C through G under the Public Assistance program for Chuuk State determined to have been adversely affected by the catastrophe declared a major disaster by the President in his declaration of January 6, 2003:

Chuuk State for Categories C through G under the Public Assistance program (already designated for Categories A and B including direct Federal assistance at 75 percent Federal funding).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program.)

Michael D. Brown,
Acting Under Secretary, Emergency Preparedness and Response.

[FR Doc. 03-8074 Filed 4-2-03; 8:45 am]

BILLING CODE 6718-02-P